DEPARTMENT OF STATE

[Public Notice 4575]

Bureau of Educational and Cultural Affairs Request for Grant Proposals: Middle East Partnership Initiative (MEPI) U.S. Business Internship Program for Young Middle Eastern Women

SUMMARY: The Office of Academic Exchange Programs of the Bureau of Educational and Cultural Affairs announces an open competition for Middle East Partnership Initiative (MEPI) U.S. Business Internship Program for Young Middle Eastern Women. Public and private non-profit organizations meeting the provisions described in Internal Revenue Code section 26 U.S.C. 501(c)(3) may submit proposals to administer the participant preparation and support component of the Middle East Partnership Initiative (MEPI) U.S. Business Internship Program for Young Middle Eastern Women for participants from Algeria, Bahrain, Egypt, Iraq (excluding Iraqi expatriates), Israel (limited to the Israeli Arab sector), Jordan, Kuwait, Lebanon, Morocco, Oman, Qatar, Saudi Arabia, Syria, Tunisia, United Arab Emirates, West Bank/Gaza and Yemen. ECA anticipates supporting 40 participants with $1,580,000 in funding through MEPI. Participants will be placed in three- or six-month management internships or three-month entry-level internships, depending on professional experience.

Important Note: This Request for Grant Proposals contains language in the “Shipment and Deadline for Proposals” section that is significantly different from that used in the past. Please pay special attention to procedural changes as outlined.

Program Information

Overview

Subject to the availability of funds, the Bureau of Educational and Cultural Affairs (ECA) requests proposals for the administration of the participant preparation and support component of the Middle East Partnership Initiative (MEPI) U.S. Business Internship Program for Young Middle Eastern Women for participants from Algeria, Bahrain, Egypt, Iraq (excluding Iraqi expatriates), Israel (limited to the Israeli Arab sector), Jordan, Kuwait, Lebanon, Morocco, Oman, Qatar, Saudi Arabia, Syria, Tunisia, United Arab Emirates, West Bank/Gaza and Yemen. ECA anticipates supporting 40 participants with $1,580,000 in funding through MEPI. Participants will be placed in three- or six-month management internships or three-month entry-level internships, depending on professional experience.

Applicant organizations must demonstrate the ability to effectively administer the participant preparation and support component of the U.S. Business Internship Program for Young Middle Eastern Women. Participant preparation and support responsibilities in four (4) administrative categories are listed below. It should be understood that in the implementation of all of these responsibilities, the Bureau must be consulted, especially in the resolution of any and all problems that may arise. The administrative portion of the grant should be kept to a minimum, and the Bureau encourages applicants to provide maximum levels of cost sharing and funding from private sources in support of this project.

1. U.S. Orientations and Academic Preparation Programs

The proposal should include a plan for two separate four-week orientation and academic preparation programs prior to the internship placements in order to assist participants with the transition to the United States, its culture, and the business environment. The first three days of the program should be conducted jointly for both groups in Washington, DC. Following this introduction, the remainder of the orientation and preparation program should be conducted in two cohorts and reflect the professional level of the participants (entry level and management interns) at a location, possibly a university campus, in the U.S. Each orientation and academic preparation program should have a maximum of 20 participants. The orientation and academic preparation program should follow an interdisciplinary approach that addresses both the opportunities and challenges of interning in a U.S. business. The program should aim to provide participants with the skills to function successfully in the United States culturally and professionally, and to inspire professional achievement. The academic portion of the program should be modeled on an MBA executive education program and could include coursework in management, finance, accounting, business strategy, marketing, organizational behavior, information technology, governance and ethics. The orientation portion of the program should include workshops on cross-cultural adaptation, U.S. history and society, the development of the business sector, women in business and leadership development.

Applicant organizations are encouraged to partner with qualified U.S. institutions that are experienced in delivering customized MBA-level training to international students. It is also highly desirable that the program participants receive a certificate of achievement from an accredited institution upon the successful completion of the academic preparation program.

2. End-of-Program Washington Workshop

The proposal should include a plan for two four-day workshops in Washington, DC. One workshop should take place at the conclusion of the three-month entry-level internship period for these interns and one should take place at the conclusion of the six-month management internship period for this group. The goals of both workshops are to provide a forum for reflection on the overall experience in the U.S., the creation of an alumnae network and the development of leadership skills. Workshop sessions should include, but not be limited to, career development, opportunities for alumni leadership, and program evaluation. Upon completion of the workshop, participants should immediately return to their countries.

3. Internship Placement Support

Internships in U.S. companies will be identified and prepared by the Bureau of Near Eastern Affairs and the Bureau of Educational and Cultural Affairs of the U.S. Department of State, in consultation with the Department of Commerce. The Department of State is working to identify internship spots for up to 40 women in both Fortune 500 companies as well as small and medium size enterprises in a variety of industries. Additionally, the Department of State is working to identify companies in the same metropolitan areas so interns will be co-located in the same cities. Businesses may accept more than one intern, but the interns should not be managed or supervised by the same person. The U.S. business will be responsible for providing professional development and management experience; a workplace orientation that includes meeting supervisors, assigning mentors, and reviewing the work outline; and assisting with the identification and arrangement of housing (prior to the intern's arrival).

Applicant organizations will be responsible for coordination with the U.S. Department of State and the participating U.S. businesses to ensure a smooth transition to the internship component of the program. Coordination includes making participant travel arrangements, ensuring that appropriate housing is available during the internship period and preparing the participants for living independently in a U.S. city. Additionally, the applicant organization should be prepared to assist in identifying additional internship placements in the event a business withdraws its offer of an internship after the participants arrive in the U.S.

4. Participant Monitoring and Support

The proposal should include a plan for monitoring and support of program participants during the U.S. portion of the program, including travel, housing and living stipend, and program evaluation. Proposals must discuss how the participants' progress in achieving program goals and objectives will be monitored. Proposals should cite the intended frequency and form of communication with the participants during the orientation and academic preparation program and during the subsequent internship period. The use of email lists and a program Web site should be utilized where possible and cost-efficient. The proposal should outline performance goals or benchmarks. Grantee organizations should define their policies for working with fellows who do not meet the academic standards of the academic portion of the program or violate program regulations.

Applicant organizations should propose qualified professional staff, able to efficiently carry out all aspects of the program in the United States. Applicant organizations must demonstrate institutional records of successful exchange programs, including responsible fiscal management and full compliance with all reporting requirements. Applicant organizations will be expected to maintain procedures and manuals for all components of the program to ensure that all staff operates the program according to an established protocol.

Applicant organizations should ensure that the Department of State, through the Bureau of Educational and Cultural Affairs and the Middle East Partnership Initiative, is acknowledged as the program sponsor in all publicity materials and advertising. Applicant organizations should calculate their budgets on an anticipated caseload of 40 principal candidates. Note that all program materials must emphasize that participants will not be able to extend or transfer their U.S. visa sponsorship at the completion of their MEPI-sponsored internship, as they are expected to return to their home countries to fulfill the two-year home residency requirement of the J visa.

Additionally, the Bureau requests that the applicant organization discuss how it plans to cooperate with the overseas recruitment partner to:

(a) Establish and maintain participant statistical database.

(b) Open, maintain and close intern files. Retain records of grants and other pertinent documentation.

(c) Conduct a technical review of applications for eligibility and thoroughness: checking for accurate bio-data, transcripts, recommendations, TOEFL scores and follow-up, if necessary, to secure missing documentation.

Guidelines: Program administration activities should cover the time frame from August 1, 2004 to March 5, 2005. The expected grantee caseload for the summer 2004 to spring 2005 time fame is projected to be 40 individuals. The Bureau's Office of Academic Exchange Programs will administer and coordinate the Middle East Partnership Initiative (MEPI) U.S. Business Internship Program for Young Middle Eastern Women. Subject to the availability of funds, the Bureau expects to award one grant of up to $1,580,000.

The Middle East Partnership Initiative (MEPI) is a Presidential initiative to support economic, political, and educational reform efforts in the Middle East and champion opportunity for all people of the region, especially women and youth. The initiative strives to link Middle Eastern, U.S., and global private sector businesses, non-governmental organizations, civil society elements, and governments together to develop innovative policies and programs to achieve this mission.

The U.S. Business Internship Program will provide young women from the Middle East unique opportunities to learn management and business skills while working in the dynamic and productive U.S. business environment. This MEPI program will establish substantive internships for skilled, qualified Middle Eastern businesswomen in cooperating U.S. businesses and create a cadre of professionals infused with an experience that only hands-on training can provide. Immersion in the American business environment will give these future business leaders unique tools and skills to bring home and incorporate into regional enterprises while creating mutually beneficial professional and personal relationships between Middle Eastern and American partners.

Participant recruitment and alumni support will be administered through a separate grant agreement. Recruitment efforts will specifically target young Middle Eastern women outside of the traditional urban areas in economically diverse and disadvantaged sectors. A review panel in Washington DC, including representatives of ECA and MEPI, will make the final selection of participants.

Competition for the MEPI U.S. Business Internship Program for Young Middle Eastern Women will be open, merit-based, and fair to all applicants. Applicants will be evaluated based on academic excellence, leadership potential, proficiency in written and spoken English (with a minimum TOEFL score of 550), maturity, and flexibility and suitability to operate successfully in an American corporate environment. Selected applicants must also demonstrate a sufficient level of information technology knowledge and word processing ability to operate in a U.S. business at the appropriate entry or management level.

In-country interview panels will be comprised of representatives from the Public Affairs section of U.S. embassies, embassy Economic/Commercial sections, locally qualified businessmen/women, NGO officials, and alumni of USG exchange programs.

All program participants must be sponsored under Exchange Visitor Program No. G-1-0332 on a J-1 Visa and comply with J-1 Visa regulations. In addition, administration of the program must comply with reporting and withholding regulations for federal, state, and local taxes as applicable.

Programs must comply with J-1 visa regulations. Please refer to Solicitation Package for further information.

Budget Guidelines: The Bureau anticipates awarding one grant in the amount of $1,580,000 to support program and administrative costs required to implement this phase of the U.S. Business Internship Program for Young Middle Eastern Women. Bureau grant guidelines require that organizations with less than four years experience in conducting international exchanges be limited to $60,000 in Bureau funding. Therefore, organizations with less than four years experience in conducting international exchanges are ineligible to apply under this competition. The Bureau encourages applicants to provide maximum levels of cost-sharing and funding from private sources in support of its programs.

Applicants must submit a comprehensive budget for the entire program. Awards may not exceed $1,580,000. There must be a summary budget as well as breakdowns reflecting both administrative and program budgets. Applicants may provide separate sub-budgets for each program component, phase, location, or activity to provide clarification. Allowable costs for the program include the following:

Program Costs

• Domestic travel, coach class or equivalent, from Washington, DC to the orientation site and from the orientation site to the internship location, and from the internship location to Washington, DC;

• Washington Orientation Workshop expenses (not to exceed $800 per participant);

• Tuition, fees (including all staffing and professional fees), room and board for orientation and academic preparation program;

• Educational materials (not to exceed $1,000 per participant);

• Cultural allowance (not to exceed $500 per participant);

• Monthly stipend (please develop an average based on current MMR rates);

• End of Program Workshop expenses (not to exceed $1000 per participant, per workshop);

• Accident and sickness insurance;

• Withholding for taxes as necessary.

Domestic Administrative Costs

• Staff salaries and fringe benefits (Each staff member and his/her position must be listed separately, including the percentage of his/her total time spent on this program and duties performed on behalf of the program. Proposed salaries and time on task must be certified as true and accurate representations of actual costs and percentage of time. Resumes must be included for new staff.);

• Staff travel and per diem;

• Communication costs (fax, telephone, postage, equipment, etc.);

• Administration of tax withholding and reporting as required by Federal, State, and local authorities and in accordance with relevant tax treaties;

• A-133 Audit fees if not included in the indirect cost pool;

• Other direct costs;

• Indirect costs (per OMB Circular A-122, Cost Principles for Non-Profit Organizations, organizations receiving more than $10 million in Federal funding of direct costs in a fiscal year must break out the indirect cost component into two broad categories, Facilities and Administration, as defined in subparagraph C.3).

The above cost allocations are subject to the availability of funds. ECA reserves the right to modify any of the above cost allocations to achieve program efficiency and cost savings.

Please refer to the Solicitation Package for complete budget guidelines and formatting instructions.

Announcement Title and Number: All correspondence with the Bureau concerning this RFGP should reference the above title and number ECA/A/E-04-02 MEPI.

FOR FURTHER INFORMATION CONTACT: The Office of Academic Exchange Programs, ECA/A/E, Room 234, U.S. Department of State, SA-44, 301 4th Street, SW., Washington, DC 20547, 202-619-4360 (phone), 202-401-5914 (fax), http://exchanges.state.gov/education/fulbright/ to request a Solicitation Package. The Solicitation Package contains detailed award criteria, required application forms, specific budget instructions, and standard guidelines for proposal preparation. Please specify Bureau Senior Program Officer Robert Greenan on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

New OMB Requirement: An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals:

Important Note: The deadline for this competition is February 17, 2003. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 7 copies of the application should be sent to: U.S. Department of State, SA-44, Bureau of Educational and Cultural Affairs, Ref.: ECA/A/E-04-02 MEPI, Program Management, ECA/EX/PM, Room 534, 301 4th Street, SW., Washington, DC 20547. Applicants must also submit the “Executive Summary” and “Proposal Narrative” sections of the proposal in text (.txt) format on a PC-formatted disk. The Bureau will provide these files electronically to the Public Affairs Section at the U.S. embassy for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR part 62, including the oversight of Responsible Officers and Alternate Responsible Officers, screening and selection of program participants, provision of pre-arrival information and orientation to participants, monitoring of participants, proper maintenance and security of forms, record-keeping, reporting and other requirements.

The Grantee will be responsible for issuing DS-2019 forms to participants in this program. A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards and grants resides with the Bureau's Grants Officer.

Review Criteria

Technically eligible applications will be competitively reviewed according to the criteria stated below. These criteria are not rank ordered and all carry equal weight in the proposal evaluation:

1. Quality of the program idea: Proposals should exhibit originality, substance, precision, and relevance to the mission of the Bureau and the Middle East Partnership Initiative.

2. Program planning: Detailed agenda and relevant work plan should demonstrate substantive undertakings and logistical capacity. Agenda and plan should adhere to the program overview and guidelines described above.

3. Ability to achieve program objectives: Objectives should be reasonable, feasible, and flexible. Proposals should clearly demonstrate how the institution will meet the program's objectives and plan.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record/Ability: Proposals should demonstrate an institutional record of successful exchange programs, including responsible fiscal management and full compliance with all reporting requirements for past Bureau grants as determined by Bureau Grant Staff. The Bureau will consider the past performance of prior recipients and the demonstrated potential of new applicants.

8. Project Evaluation: Proposals should include a plan to evaluate the activity's success, both as the activities unfold and at the end of the program. A draft survey questionnaire or other technique plus description of a methodology to use to link outcomes to original project objectives are recommended. Successful applicants will be expected to submit intermediate reports after each project component is concluded or quarterly, whichever is less frequent.

9. Cost-effectiveness: The overhead and administrative components of the proposal, including salaries and honoraria, should be kept as low as possible. All other items should be necessary and appropriate.

10. Cost-sharing: Proposals should maximize cost-sharing through other private sector support as well as institutional direct funding contributions.

11. Value to U.S.-Partner Country Relations: Proposed projects should receive positive assessments by the U.S. Department of State's geographic area desk and overseas officers of program need, potential impact, and significance in the partner country(ies).

Authority

Overall grant making authority for this program is contained in the Mutual Educational and Cultural Exchange Act of 1961, Public Law 87-256, as amended, also known as the Fulbright-Hays Act. The purpose of the Act is “to enable the Government of the United States to increase mutual understanding between the people of the United States and the people of other countries * * * to strengthen the ties which unite us with other nations by demonstrating the educational and cultural interests, developments, and achievements of the people of the United States and other nations * * * and thus to assist in the development of friendly, sympathetic and peaceful relations between the United States and the other countries of the world.” The funding authority for the program above is provided through legislation. The funding for this program is provided through the Middle East Partnership Initiative (MEPI).

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: December 19, 2003.
C. Miller Crouch,
Principal Deputy Assistant Secretary, Bureau of Educational and Cultural Affairs, Department of State.

[FR Doc. 03-31882 Filed 12-24-03; 8:45 am]

BILLING CODE 4710-05-P